DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, the United States Department of Agriculture announces the appointment of members made by the Secretary of Agriculture to fill 7 vacancies on the National Agricultural Research, Extension, Education, and Economics Advisory Board.

DATES: Appointments by the Secretary of Agriculture are for 2, or 3 year terms effective October 1, 2016.

ADDRESSES: National Agricultural Research, Extension, Education, and Economics Advisory Board; Research Extension, Education, and Economics Advisory Board Office, Room 332A, The Whitten Building, U.S. Department of Agriculture; STOP 0301; 1400 Independence Avenue SW., Washington, DC 20250-2255.

FOR FURTHER INFORMATION CONTACT: Michele Esch, Executive Director, Research, Education, and Economics Advisory Board, 1400 Independence Avenue SW., Room 332A, The Whitten Building, Washington, DC 20250-2255 Telephone: 202-720-3684. Fax: 202-720-6199, email: nareeeab@ars.usda.gov. Committee Web site: www.nareeeab.ree.usda.gov.

SUPPLEMENTARY INFORMATION: Section 802 of the Federal Agricultural Improvement and Reform Act of 1996 authorized the creation of the National Agricultural Research, Extension, Education, and Economics Advisory Board. The Board is composed of 25 members, each representing a specific category related to agriculture. The Board was first appointed in September 1996 and at the time one-third of the original members were appointed for one, two, and three-year term, respectively. Due to the staggered appointments, the terms for 7 of the 25 members expired September 30, 2016.

Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 7 appointments are as follows:

Category F. National Food Animal Science Society: Govind Kannan (Re-appointment), Dean and Director, College of Agriculture, Family Sciences and Technology, Fort Valley State University, Fort Valley, GA;

Category G. National Crop, Soil, Agronomy, Horticulture, or Weed Science Society: Roch Gaussoin, Professor and Department Head, Department of Agronomy and Horticulture, University of Nebraska, Lincoln, NE;

Category L. 1890 Land-Grant Colleges and Universities: Kenrett Jefferson-Moore, Professor, North Carolina A&T, Greensboro, NC;

Category M. 1994 Equity in Education Land-Grant Institutions: Michael Oltrogge, President, Nebraska Indian Community College, Macy, NE;

Category P. American Colleges of Veterinary Medicine: Mark Lawrence, Professor and Associate Dean, Research and Graduate Studies, College of Veterinary Medicine, Mississippi State University, Mississippi, MS;

Category T. Rural Economic Development: Robin Beck, Owner, Rockin' Sheep Products LLC, Livermore Falls, ME;

Category U. National Consumer Interest Group: Richard De Los Santos, Coordinator for Horticulture, Produce, and Forestry Marketing, Austin, TX.

Dated: November 2, 2016.
Ann Bartuska,
Deputy Under Secretary, Research, Education, and Economics.

[FR Doc. 2016-27161 Filed 11-9-16; 8:45 am]

BILLING CODE 3410-03-P